DEPARTMENT OF ENERGY

Proposed Subsequent Arrangement

AGENCY: Office of Nonproliferation and International Security, Department of Energy.

ACTION: Proposed subsequent arrangement.

SUMMARY: This notice has been issued under the authority of Section 131 of the Atomic Energy Act of 1954, as amended (42 U.S.C. 2160). The Department is providing notice of a proposed subsequent arrangement under the Agreement for Cooperation Concerning Civil Uses of Nuclear Energy Between the Government of the United States of America and the Government of Canada and the Agreement for Cooperation in the Peaceful Uses of Nuclear Energy Between the United States of America and the European Atomic Energy Community.

This subsequent arrangement concerns the retransfer of 1,470,588.2 kg of U.S.-origin natural uranium hexafluoride (68.00% U), 1,000,000 kg of which is uranium, from Areva Resources Canada, Inc. (Areva Resources) in Saskatoon, Saskatchewan, Canada, to Eurodif Production in Pierrelatte, France. The material, which is currently located at Areva Resources, will be transferred to Eurodif Production for enrichment and use as fuel in civilian nuclear power programs in the United States and France. The material was originally obtained by Areva Resources from the Feed Component Substitution Implementing Contract.

In accordance with Section 131 of the Atomic Energy Act of 1954, as amended, it has been determined that this subsequent arrangement will not be inimical to the common defense and security.

This subsequent arrangement will take effect no sooner than fifteen days after the date of publication of this notice.

Dated: October 1, 2010.
For the Department of Energy.
Thomas P. D'Agostino,
Administrator, National Nuclear Security Administration.

[FR Doc. 2010-27500 Filed 10-29-10; 8:45 am]

BILLING CODE 6450-01-P